ENVIRONMENTAL PROTECTION AGENCY

40 CFR Parts 9, 141, and 142

[FRL-6726-3]

OMB Approval Numbers for the Primacy Rule Under the Paperwork Reduction Act and Clarification of OMB Approval for the Consumer Confidence Report Rule

AGENCY: Environmental Protection Agency.

ACTION: Final rule; technical amendment.

SUMMARY: EPA is confirming that the Office of Management and Budget approved information collection requirements for the final rule National Primary Drinking Water Regulations: Consumer Confidence Report (Consumer Confidence Report Rule) (August 19, 1998) and the final rule Revisions to State Primacy Requirements to Implement Safe Drinking Water Act Amendments (Primacy Rule) (April 28, 1998).

EFFECTIVE DATES: The amendment to 40 CFR 9.1 is effective June 30, 2000. 40 CFR part 141 subpart 0, and 40 CFR 142.16(f) became effective on September 20, 1998, when OMB approved the information collection requirements for the Consumer Confidence Report Rule. 40 CFR 142.11(a)(6) became effective on September 21, 1998, when OMB approved the information collection requirements for the Primacy Rule.

FOR FURTHER INFORMATION CONTACT: For information related to the Consumer Confidence Report Rule, contact Rob Allison, Information Management Branch; Office of Ground Water and Drinking Water; EPA (4606), Ariel Rios Building, 1200 Pennsylvania Ave, NW, Washington, DC 20460; telephone 202-260-9836 or allison.rob@epa.gov. For information related to the Primacy Rule, contact Jennifer Melch; Regulatory Implementation Branch; Office of Ground Water and Drinking Water; EPA (4606), Ariel Rios Building, 1200 Pennsylvania Ave, NW, Washington, DC 20460; telephone (202) 260-7035, or melch.jennifer@epa.gov.

SUPPLEMENTARY INFORMATION:

I. What Does This Correction Do?

This document announces the effective dates of certain Code of Federal Regulations sections which contain information collection requirements. These information collection requirements can be found at in 40 CFR part 141, subpart O, and part 142, § 142.16(f) for the Consumer Confidence Report Rule (63 FR 44511), and in 40 CFR part 142, § 142.11(a)(6) for the Primacy Rule (63 FR 23362).

Under the Paperwork Reduction Act (PRA), 44 U.S.C. 3501 et seq., an Agency may not conduct or sponsor, and a person is not required to respond to, a collection of information that is subject to approval under the PRA, unless it displays a currently valid OMB control number. The OMB control numbers for EPA's regulations are listed in 40 CFR part 9.

OMB approved the information collection requirements contained in the Consumer Confidence Report Rule on September 20, 1998, and approved the information collection requirements contained in the Primacy Rule on September 21, 1998.

In the December 28, 1998 Federal Register (63 FR 71375), EPA announced approval for the information collection requirements contained in the Consumer Confidence Report Rule and that OMB control number 2040-0201 had been assigned to these collections activities. The document amended 40 CFR part 9 to add this OMB control number to the comprehensive listing of OMB control numbers for EPA's regulations that appears in § 9.1.

Because there was no formal linkage between the December 28, 1998 notice and 40 CFR parts 141 and 142 for the Consumer Confidence Report Rule, the OFR did not make the connection to the information collection requirements contained in these sections. As a result, OFR added the following Effective Date Note to 40 CFR part 141 Subpart O: “This section contains information collection requirements and will not become effective until approval has been given by the Office of Management and Budget.”

This document creates that formal linkage and instructs the OFR to remove the Effective Date Note.

Today's rule also amends the table of currently approved information collection request (ICR) control numbers issued by OMB to include those information requirements promulgated under the Primacy Rule which appeared in the Federal Register on April 28, 1998 (63 FR 23362). The affected regulations are codified at 40 Code of Federal Regulations (CFR) part 142. EPA will continue to present OMB control numbers in a consolidated table format to be codified in 40 CFR part 9 of the Agency's regulations. The table lists the section numbers with reporting and recordkeeping requirements, and the current OMB control numbers. This listing of the OMB control numbers and their subsequent codification in the CFR satisfy the requirements of the Paperwork Reduction Act (44 U.S.C. 3501 et seq.) and OMB's implementing regulations at 5 CFR part 1320.

II. Why Is This Correction Issued as a Final Rule?

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because both the ICRs for the Consumer Confidence Report Rule and the Primacy Rule were previously subject to public notice and comment prior to OMB approval. Today's actions correct the CFR to properly reflect OMB's approval of the information collection requirements contained in 40 CFR part 141, subpart O, and part 142 and to amend the table in 40 CFR part 9 to include OMB approval numbers. Thus, notice and public procedure are unnecessary. EPA finds that this constitutes good cause under 5 U.S.C. 553(b)(B). For the same reasons, EPA is making the provisions of this rule effective upon promulgation, as authorized under the APA (see section 553(d)(3)).

III. Do Any of the Regulatory Requirements Apply to This Action?

Under Executive Order 12866 (58 FR 51735, October 4, 1993), this action is not a “significant regulatory action” and is therefore not subject to review by the Office of Management and Budget. Because the agency has made a “good cause” finding that this action is not subject to notice-and-comment requirements under the Administrative Procedure Act or any other statute (see section II above), it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This technical correction action does not involve technical standards; thus, the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).” EPA's compliance with these statutes and Executive Orders for the underlying rules are discussed in the April 28, 1998 and August 19, 1998 Federal Register notices.

IV. Will EPA Submit This Final Rule to Congress and the Comptroller General?

Yes. The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a good cause finding that notice and public procedure is impracticable, unnecessary or contrary to the public interest. This determination must be supported by a brief statement. 5 U.S.C. 808(2). As stated previously, EPA has made such a good cause finding, including the reasons therefore, and established an effective date for the removal of the Effective Date Notes of June 30, 2000. EPA will submit a report containing this rule and other required information to the U.S. Senate, the U.S. House of Representatives, and the Comptroller General of the United States prior to publication of the rule in the Federal Register. This is not a “major rule” as defined by 5 U.S.C. 804(2).

List of Subjects

40 CFR Part 9

Environmental protection, Reporting and recordkeeping requirements.

40 CFR Parts 141 and 142

Environmental protection, Reporting and recordkeeping requirements, Water supply.

Dated: June 21, 2000.
J. Charles Fox,
Assistant Administrator for Water.

For the reasons set out in the preamble, 40 CFR part 9 is amended as follows:

1. The authority citation of part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345 (d) and (e), 1361; E.O. 11735; 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1, the table is amended by removing “142.10-142.13” and adding the new entries in numerical order under the indicated heading to read as follows:

§ 9.1 OMB approvals under the Paperwork Reduction Act.

* * * * *

40 CFR citation | OMB control No.
* * * * *
National Primary Drinking Water Regulations Implementation
* * * * *
142.10 | 2040-0090
142.11(a)(1)-(a)(5) | 2040-0090
142.11(a)(6) | 2040-0915
142.11(a)(7) | 2040-0090
142.12 | 2040-0090
142.13 | 2040-0090
* * * * *

[FR Doc. 00-16368 Filed 6-29-00; 8:45 am]

BILLING CODE 6560-50-P